ENVIRONMENTAL PROTECTION AGENCY

40 CFR Part 52

[EPA-R09-OAR-2013-0148; FRL-9798-7]

Approval and Promulgation of Air Quality Implementation Plans; Nevada; Regional Haze Federal Implementation Plan; Reconsideration of BART Compliance Date for Reid Gardner Generating Station; Announcement of Public Hearing

AGENCY: Environmental Protection Agency (EPA).

ACTION: Notice of public hearing; extension of comment period.

SUMMARY: On March 26, 2013, EPA granted reconsideration of the compliance date for the Best Available Retrofit Technology (BART) emission limits for oxides of nitrogen (NOX) for Units 1, 2, and 3 at the Reid Gardner Generating Station (RGGS) and proposed to extend the compliance date by 18 months, from January 1, 2015, to June 30, 2016. EPA is holding a public hearing on April 29, 2013, to accept written and oral comments on this proposed action. The comment period for this action was scheduled to close on May 28, 2013. EPA is extending the comment period to May 30, 2013 to allow for a full 30-day period for the submission of additional public comment following the public hearing.

DATES: The public hearing will be held on April 29, 2013. Comments must be postmarked no later than May 30, 2013.

ADDRESSES: The public hearing will be held at the Big Auditorium in the Moapa Band of Paiute Indians Administration Building on 1 Lincoln Street (cross-street is Reservation Road) in Moapa, Nevada.

FOR FURTHER INFORMATION CONTACT: Anita Lee, EPA Region 9, (415) 972-3958, r9_airplanning@epa.gov.

If you require reasonable accommodation at the public hearing, please contact Terisa Williams, EPA Region 9 Reasonable Accommodations Coordinator, at (415) 972-3829, or Williams.Terisa@epa.gov, by April 15, 2013.

SUPPLEMENTARY INFORMATION: The public hearing will provide interested parties the opportunity to present views or arguments concerning the proposed rule to extend the compliance date, from January 1, 2015, to June 30, 2016, for Units 1, 2, and 3 at RGGS to meet emission limits for NOX required under the BART provision of the Regional Haze Rule. Written statements and supporting information submitted during the comment period will be considered with the same weight as any oral comments and supporting information presented at the public hearing. Written comments must be postmarked on or before the last day of the comment period, May 30, 2013.

The public hearing will be held at the Big Auditorium in the Moapa Band of Paiute Indians Administration Building on 1 Lincoln Street (cross-street is Reservation Road) in Moapa, Nevada. The hearing will begin at 6:00 p.m. (local time) and end at 8:00 p.m. (local time). Oral testimony may be limited to five minutes for each commenter to address the proposed rule. We will not be providing equipment to commenters to show overhead slides or make computerized slide presentations. Any person may provide written or oral comments and submit data pertaining to our proposed rule at this hearing. Verbatim transcripts of the hearing and copies of written statements or comments will be included in the docket for this proposed rulemaking.

EPA will not respond to comments during the public hearing. When we publish our final action, we will provide written responses to all comments received on our proposal. EPA staff will be available during the hearing to informally answer questions on our proposed action. Any comments made to EPA staff must still be provided in writing or orally during the public hearing in order to be considered in the record.

If you are unable to attend the hearing but wish to submit comments on the proposed rule, you may submit comments, identified by docket number EPA-R09-OAR-2013-0148, by one of the following methods:

(1) Federal eRulemaking Portal: www.regulations.gov. Follow the on-line instructions.

(2) Email: r9_airplanning@epa.gov.

(3) Mail or deliver: Anita Lee (Air-2), U.S. Environmental Protection Agency Region 9, 75 Hawthorne Street, San Francisco, CA 94105-3901.

For more detailed instructions concerning how to submit comments on this proposed rule, and for more information on our proposed rule, please see the notice of proposed rulemaking and notice of reconsideration of final rule, published in the Federal Register on March 26, 2013 (78 FR 18280).

List of Subjects in 40 CFR Part 52

Environmental protection, Air pollution control, Incorporation by reference, Nitrogen Dioxide.

Authority: 42 U.S.C. 7401 et seq.

Dated: March 28, 2013.
Deborah Jordan,
Air Division Director, Region 9.

[FR Doc. 2013-07869 Filed 4-3-13; 8:45 am]

BILLING CODE 6560-50-P